DEPARTMENT OF HEALTH AND HUMAN SERVICES

Centers for Disease Control and Prevention

Multi-Agency Informational Meeting Concerning Compliance With the Federal Select Agent Program; Public Webcast

AGENCY: Centers for Disease Control and Prevention (CDC), Department of Health and Human Services (HHS).

ACTION: Notice of rescheduled public webcast.

SUMMARY: The HHS/CDC's Division of Select Agents and Toxins (DSAT) and the U.S. Department of Agriculture's Animal and Plant Health Inspection Service, Agriculture Select Agent Services (AgSAS) are jointly charged with the regulation of the possession, use and transfer of biological agents and toxins that have the potential to pose a severe threat to public, animal or plant health or to animal or plant products (select agents and toxins). This joint effort constitutes the Federal Select Agent Program. The purpose of the webcast is to provide guidance and information related to the Federal Select Agent Program for interested individuals.

DATES: The webcast, which was originally scheduled for Wednesday, November 9, 2016 is rescheduled to Wednesday, February 8, 2017 from 12 p.m. to 4 p.m. EST. All who wish to join the webcast should register by February 6, 2017. The registration is available on this Web site: http://www.selectagents.gov/webform.html.

ADDRESSES: The webcast will be broadcast from CDC, 1600 Clifton Road, Atlanta, GA 30329. This will only be produced as a webcast; therefore, no accommodations will be provided for in-person participation.

FOR FURTHER INFORMATION CONTACT:

CDC: Ms. Diane Martin, DSAT, Office of Public Health Preparedness and Response, CDC, 1600 Clifton Road, NE., MS A-46, Atlanta, GA 30329; phone: 404-718-2000; email: lrsat@cdc.gov.

APHIS: Dr. Leon White, AgSAS, APHIS, 4700 River Road, Unit 2, Riverdale, MD 20737; phone: 301-851-3300 (option 3); email: AgSAS@aphis.usda.gov.

SUPPLEMENTARY INFORMATION: The public webcast—originally scheduled for Wednesday, November 9, 2016 and rescheduled to Wednesday, February 8, 2017—is an opportunity for the affected community (i.e., registered entity responsible officials, alternate responsible officials, and entity owners) and other interested individuals to obtain specific regulatory guidance and information concerning biosafety, security and incident response issues related to the Federal Select Agent Program.

Representatives from the Federal Select Agent Program will be present during the webcast to address questions and concerns from the web participants.

Participants that have already registered for the November date will not need to re-submit registration requests for the new date. Those individuals that have not registered and want to participate in the webcast should complete their registration online by February 6, 2017. The registration is available on this Web site: http://www.selectagents.gov/webform.html.

Sandra Cashman,
Executive Secretary, Centers for Disease Control and Prevention.

[FR Doc. 2016-26927 Filed 11-7-16; 8:45 am]

BILLING CODE 4163-18-P